NUCLEAR REGULATORY COMMISSION

[NRC-2009-0262]

Draft Regulatory Guide: Issuance, Availability

AGENCY: Nuclear Regulatory Commission.

ACTION: Notice of Issuance and Availability of Draft Regulatory Guide, DG-3037.

FOR FURTHER INFORMATION CONTACT: Margie Kotzalas, U.S. Nuclear Regulatory Commission, Washington, DC 20555-0001, telephone: (301) 492-3202, e-mail Margie.Kotzalas@nrc.gov, or, R.A. Jervey, telephone (301) 251-7404, e-mail Richard.Jervey@nrc.gov.

SUPPLEMENTARY INFORMATION:

I. Introduction

The U.S. Nuclear Regulatory Commission (NRC) is issuing for public comment a draft guide in the agency's “Regulatory Guide” series. This series was developed to describe and make available to the public information and methods that are acceptable to the NRC staff for implementing specific parts of the NRC's regulations, techniques that the staff uses in evaluating specific problems or postulated accidents, and data that the staff needs in its review of applications.

The draft regulatory guide (DG), entitled, “Guidance for Fuel Cycle Facility Change Processes,” is temporarily identified by its task number, DG-3037, which should be mentioned in all related correspondence. DG-3037 will be a new regulatory guide.

Title 10 of the Code of Federal Regulations, Part 70, “Domestic Licensing of Special Nuclear Material” (10 CFR Part 70) contains the regulations for fuel cycle facility licensees that possess greater than a critical mass of special nuclear material and are engaged in enriched uranium processing, fabrication of uranium fuel or fuel assemblies, uranium enrichment, enriched uranium hexafluoride conversion, plutonium processing, and fabrication of mixed-oxide fuel or fuel assemblies.

Subsection (a) of 10 CFR 70.72, “Facility changes and change process,” requires that fuel cycle facility licensees establish a configuration management system to evaluate, implement, and track each change to the site, structures, processes, systems, equipment, components, computer programs, and activities of personnel. Such changes may be made by the licensee without prior approval of the NRC, provided that the changes meet the criteria of 10 CFR 70.72(c). DG-3037 provides guidance on how to meet the requirements of 10 CFR 70.72(c).

II. Further Information

The NRC staff is soliciting comments on DG-3037. Comments may be accompanied by relevant information or supporting data and should reference DG-3037 in the subject line. Comments submitted in writing or in electronic form will be made available to the public in their entirety through the NRC's Agencywide Documents Access and Management System (ADAMS).

Personal information will not be removed from your comments. You may submit comments by any of the following methods:

1. Mail comments to: Rulemaking and Directives Branch, Office of Administration, U.S. Nuclear Regulatory Commission, Washington, DC 20555-0001.

2. E-mail comments to: nrcrep.resource@nrc.gov.

Requests for technical information about DG-3037 may be directed to the NRC contact, Margie Kotzalas at (301) 492-3202 or e-mail to Margie.Kotzalas@nrc.gov.

Comments would be most helpful if received by August 17, 2009. Comments received after that date will be considered if it is practical to do so, but the NRC is able to ensure consideration only for comments received on or before this date. Although a time limit is given, comments and suggestions in connection with items for inclusion in guides currently being developed or improvements in all published guides are encouraged at any time.

Electronic copies of DG-3037 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML091200493.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 22nd day of June, 2009. For the Nuclear Regulatory Commission.
M.P. Orr,
Acting Chief, Regulatory Guide Development Branch, Division of Engineering, Office of Nuclear Regulatory Research.

[FR Doc. E9-15279 Filed 6-26-09; 8:45 am]

BILLING CODE 7590-01-P